DEPARTMENT OF HOMELAND SECURITY

U.S. Citizenship and Immigration Services

[OMB Control Number 1615-0040]

Agency Information Collection Activities; Revision of a Currently Approved Collection: Application for Employment Authorization

AGENCY: U.S. Citizenship and Immigration Services, Department of Homeland Security.

ACTION: 60-Day notice.

SUMMARY: The Department of Homeland Security (DHS), U.S. Citizenship and Immigration Services (USCIS) invites the general public and other Federal agencies to comment upon this proposed revision of a currently approved collection of information. In accordance with the Paperwork Reduction Act (PRA) of 1995, the information collection notice is published in the Federal Register to obtain comments regarding the nature of the information collection, the categories of respondents, the estimated burden (i.e. the time, effort, and resources used by the respondents to respond), the estimated cost to the respondent, and the actual information collection instruments.

DATES: Comments are encouraged and will be accepted for 60 days until December 23, 2024.

ADDRESSES: All submissions received must include the OMB Control Number 1615-0040 in the body of the letter, the agency name and Docket ID USCIS-2005-0035. Submit comments via the Federal eRulemaking Portal website at https://www.regulations.gov under e-Docket ID number USCIS-2005-0035.

FOR FURTHER INFORMATION CONTACT: USCIS, Office of Policy and Strategy, Regulatory Coordination Division, Samantha Deshommes, Chief, telephone number (240) 721-3000 (This is not a toll-free number. Comments are not accepted via telephone message). Please note contact information provided here is solely for questions regarding this notice. It is not for individual case status inquiries. Applicants seeking information about the status of their individual cases can check Case Status Online, available at the USCIS website at https://www.uscis.gov, or call the USCIS Contact Center at 800-375-5283 (TTY 800-767-1833).

SUPPLEMENTARY INFORMATION:

Comments:

You may access the information collection instrument with instructions or additional information by visiting the Federal eRulemaking Portal site at: https://www.regulations.gov and entering USCIS-2005-0035 in the search box. All comments must be submitted in English or be accompanied by a translation. All submissions will be posted, without change, to the Federal eRulemaking Portal at https://www.regulations.gov, and will include any personal information you provide. Therefore, submitting this information makes it public. You may wish to consider limiting the amount of personal information that you provide in any voluntary submission you make to DHS. DHS may withhold information provided in comments from public viewing that it determines may impact the privacy of an individual or is offensive. For additional information, please read the Privacy Act notice that is available via the link in the footer of https://www.regulations.gov.

Written comments and suggestions from the public and affected agencies should address one or more of the following four points:

(1) Evaluate whether the proposed collection of information is necessary for the proper performance of the functions of the agency, including whether the information will have practical utility;

(2) Evaluate the accuracy of the agency's estimate of the burden of the proposed collection of information, including the validity of the methodology and assumptions used;

(3) Enhance the quality, utility, and clarity of the information to be collected; and

(4) Minimize the burden of the collection of information on those who are to respond, including through the use of appropriate automated, electronic, mechanical, or other technological collection techniques or other forms of information technology, e.g., permitting electronic submission of responses.

In addition to the specific changes proposed to the USCIS Form I-765 and accompanying instructions in this 60-day notice, USCIS is exploring additional technology and internal process improvements to further reduce the burden to those applying for initial employment authorization, seeking evidence of existing employment authorization, or employment authorization incident to status or an Employment Authorization Document (EAD). USCIS specifically requests comments on the submission of passport-style photos during the application process and expanding the options available to filers for submission of photos through the use of emerging technologies, such as a smartphone application that would allow for the capture and submission of passport-style photos necessary to produce an EAD. Finally, please provide detailed reasons why USCIS should or should not consider use of the mobile app or alternate technology for photo capture.

USCIS specifically requests comments on providing alternative means to apply for employment authorization or evidence of existing employment authorization that could substitute for submitting a separate Form I-765, Application for Employment Authorization. Comments may also address a proposal to provide applicants the option to consent to USCIS sharing certain information from their benefit requests with the Social Security Administration (SSA) for the purposes of having the SSA assign the applicant a Social Security Number and issue the applicant a new or replacement Social Security Card upon approval of the underlying benefit request. USCIS anticipates that it would still collect the required filing fee associated with any alternative request for employment authorization or evidence of existing employment authorization that does not use the Form I-765, Application for Employment Authorization, pursuant to 8 CFR 106.1(a) (The fees established in [Part 106] are associated with the benefit, the adjudication, or the type of request and not solely determined by the form number listed in [8 CFR] 106.2). If there is not an interest, provide detailed reasons why there is not.

Overview of This Information Collection

(1) Type of Information Collection: Revision of a Currently Approved Collection.

(2) Title of the Form/Collection: Application for Employment Authorization.

(3) Agency form number, if any, and the applicable component of the DHS sponsoring the collection: I-765; USCIS.

(4) Affected public who will be asked or required to respond, as well as a brief abstract: Primary: Individuals or households. Form I-765 collects information needed to determine if an alien is eligible for an initial EAD, a replacement EAD, or a subsequent EAD upon the expiration of a previous EAD under the same eligibility category. Aliens in many immigration statuses are required to possess an EAD as evidence of work authorization. To be authorized for employment, an alien must be lawfully admitted for permanent residence or authorized to be so employed by the Immigration and Nationality Act (INA) or under regulations issued by DHS. Pursuant to statutory or regulatory authorization, certain classes of aliens are authorized to be employed in the United States without restrictions as to location or type of employment as a condition of their admission or subsequent change to one of the indicated classes. USCIS may determine the validity period assigned to any document issued evidencing an alien's authorization to work in the United States. These classes of aliens authorized to accept employment are listed in 8 CFR 274a.12. USCIS also collects biometric information from certain EAD applicants to verify the applicant's identity, check or update their background information, and produce the EAD card. An applicant for employment authorization can apply for a Social Security Number (SSN) and Social Security card using Form I-765.

(5) An estimate of the total number of respondents and the amount of time estimated for an average respondent to respond: The estimated total number of respondents for the information collection I-765 (paper) is 3,816,321 and the estimated hour burden per response is 4.26 hours; the estimated total number of respondents for the information collection I-765 (electronic) is 2,339,036 and the estimated hour burden per response is 3.88 hours; the estimated total number of respondents for the information collection Form I-765WS is 355,790 and the estimated hour burden per response is .50 hours; the estimated total number of respondents for the information collection Biometric Processing is 2,242 and the estimated hour burden per response is 1.17 hours; the estimated total number of respondents for the information collection Passport-Style Photographs is 6,153,115 and the estimated hour burden per response is .50 hours.

(6) An estimate of the total public burden (in hours) associated with the collection: The total estimated annual hour burden associated with this collection is 28,590,063 hours.

(7) An estimate of the total public burden (in cost) associated with the collection: The estimated total annual cost burden associated with this collection of information is $1,079,442,537.

Dated: October 16, 2024.
Jerry L. Rigdon,
Deputy Chief, Regulatory Coordination Division, Office of Policy and Strategy, U.S. Citizenship and Immigration Services, Department of Homeland Security.

[FR Doc. 2024-24367 Filed 10-21-24; 8:45 am]

BILLING CODE 9111-97-P